DEPARTMENT OF COMMERCE

U.S. Census Bureau

Proposed Information Collection; Comment Request; 2018 Estimates of Compact of Free Association (COFA) Migrants

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before December 26, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Oliver P. Fischer via U.S. Census Bureau, 4600 Silver Hill Road, Room 6H189, Washington, DC 20233, or (301) 763.6249, or by email at oliver.p.fischer@census.gov.

SUPPLEMENTARY INFORMATION:

I. Abstract

The U.S. Census Bureau plans to request clearance from the Office of Management and Budget to survey residents of Guam and the Commonwealth of the Northern Mariana Islands (CNMI) to collect basic demographic data to meet the needs of the Compact of Free Association (COFA).

The COFA defines the relationship between the United States Government and the Federated States of Micronesia, the Republic of the Marshall Islands, and the Republic of Palau. The COFA became effective for the Republic of the Marshall Islands and the Federated States of Micronesia in 1986 and for the Republic of Palau in 1994.

The 2003 COFA Amendments Act appropriated $30 million annually in funding “to aid in defraying costs incurred by affected jurisdictions as a result of increased demands. . .due to the residence in affected jurisdictions of qualified nonimmigrants from the Federated States of Micronesia, the Republic of the Marshall Islands, and the Republic of Palau.” The “affected jurisdictions” in the 2003 COFA Amendments Act are American Samoa, CNMI, Guam, and Hawaii.

COFA migrants (also referred to as qualified nonimmigrants) are migrants, or their children under the age of 18, admitted or resident in one of the affected jurisdictions, who migrated from the Federated States of Micronesia or the Republic of the Marshall Islands during or after 1986, and from the Republic of Palau during or after 1994.

In order to disburse the appropriated funds to the affected jurisdictions, the COFA Amendments Act of 2003 requires an enumeration of COFA migrants residing within the affected jurisdictions no less than every five years. The most recent enumeration of COFA migrants took place in 2013. The 2013 estimates of COFA migrants were derived using data from the 2010 Decennial Census for American Samoa, CNMI, and Guam, and 2009—2011 American Community Survey (ACS) data for Hawaii. These data sources were determined by stakeholders to produce the most accurate, reliable, and cost-effective estimates for the purposes of the 2013 enumeration. The next enumeration is set to take place in 2018. The Department of the Interior has provided the Census Bureau funding for the work required to produce the estimates.

The Census Bureau proposes that the 2018 Estimates of COFA migrants follow the methodology used to produce the 2008 Estimates of COFA migrants. The approach is three-pronged due to differences between the jurisdictions in overall population, expected number of COFA migrants, and currently available data.

The methodology consists of the following:

1. Conduct independent sample surveys for CNMI and Guam. Field enumeration will be required for CNMI and Guam since the Census Bureau has no other reliable up-to-date demographic data source for these areas beyond the 2010 Decennial Census. The survey for CNMI will only include Saipan since the 2010 Decennial Census data indicates low numbers of COFA migrants living in others parts of CNMI. The sample surveys will obtain data on place of birth, residential tenure, age, sex, and relationship to head of household of all members of selected households. The sample will be designed to yield estimates with a margin of error similar to that of three years of ACS data.

2. Perform special tabulations on a three-year average of results from 2015 to 2017 ACS data to create estimates for Hawaii (all islands).

3. Use the 2010 Decennial Census results for American Samoa, and CNMI's Rota and Tinian islands as estimates of the 2018 counts. It would not be cost effective to conduct an independent survey in these areas due to the low numbers of COFA migrants as indicated by the 2010 Decennial Census and the negligible impact these low numbers will have on the overall distribution of the $30 million in Compact funds.

II. Method of Collection

In Guam, approximately 45 sample blocks totaling about 3,300 sample addresses will be listed and enumerated. In CNMI, approximately 30 sample blocks totaling about 2,000 sample addresses will be listed and enumerated. The data will be collected via in-person interviews. A content re-interview will be conducted to assess the accuracy and reliability of the data collected. For the re-interview, a sample of approximately 400 respondents will be selected and contacted for a follow-up interview via a telephone number they provided during the original interview.

III. Data

OMB Control Number: 0607-XXXX.

Form Number(s): XXXX.

Type of Review: Regular submission.

Affected Public: Residents of Guam and CNMI.

Estimated Number of Respondents: Approximately 4,770 respondents.

Estimated Time per Response: 32 minutes.

Estimated Total Annual Burden Hours: 2,544.

Estimated Total Annual Cost to Public: There is no cost to the respondents other than their time.

Respondent's Obligation: Voluntary.

Legal Authority: Title 13 U.S.C. Section 8(b) and Public Law 108-188, The Compact of Free Association Amendments Act of 2003.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental PRA Lead, Office of the Chief Information Officer.

[FR Doc. 2017-23147 Filed 10-24-17; 8:45 am]

BILLING CODE 3510-07-P